ENVIRONMENTAL PROTECTION AGENCY

40 CFR Part 52

[R07-OAR-2004-IA-0005; FRL-7836-3]

Approval and Promulgation of State Implementation Plans; State of Iowa

AGENCY: Environmental Protection Agency (EPA).

ACTION: Proposed rule.

SUMMARY: EPA is proposing to approve a revision to the Iowa state implementation plan (SIP) for the purpose of adding information to establish exemptions for equipment that is either used for nonproduction activities or exhausted inside a building, to establish an exemption for manually-operated equipment, and to establish exemptions for emission units that can be classified as small units. The state has determined that air pollution emissions from this equipment are negligible and these exemptions are likely to result in no significant impact on human health or the environment.

DATES: Comments on this proposed action must be received in writing by December 13, 2004.

ADDRESSES: Comments may be mailed to Heather Hamilton, Environmental Protection Agency, Air Planning and Development Branch, 901 North 5th Street, Kansas City, Kansas 66101. Comments may also be submitted electronically or through hand delivery/courier; please follow the detailed instructions in the Addresses section of the direct final rule which is located in the rules section of this Federal Register.

FOR FURTHER INFORMATION CONTACT: Heather Hamilton at (913) 551-7039, or by e-mail at hamilton.heather@epa.gov.

SUPPLEMENTARY INFORMATION: In the final rules section of the Federal Register, EPA is approving the state's revision to the state implementation plan as a direct final rule without prior proposal because the Agency views this as a noncontroversial revision amendment and anticipates no relevant adverse comments to this action. A detailed rationale for the approval is set forth in the direct final rule. If no relevant adverse comments are received in response to this action, no further activity is contemplated in relation to this action. If EPA receives relevant adverse comments, the direct final rule will be withdrawn and all public comments received will be addressed in a subsequent final rule based on this proposed action. EPA will not institute a second comment period on this action. Any parties interested in commenting on this action should do so at this time. Please note that if EPA receives adverse comment on part of this rule and if that part can be severed from the remainder of the rule, EPA may adopt as final those parts of the rule that are not the subject of an adverse comment. For additional information, see the direct final rule which is located in the rules section of this Federal Register.

Dated: November 1, 2004.
James B. Gulliford,
Regional Administrator, Region 7.

[FR Doc. 04-24919 Filed 11-10-04; 8:45 am]

BILLING CODE 6560-50-P